DEPARTMENT OF HOMELAND SECURITY

Federal Emergency Management Agency

[Docket ID: FEMA-2015-0022; OMB No. 1660-0054]

Agency Information Collection Activities: Submission for OMB Review; Comment Request; Assistance to Firefighters Grant Program and Fire Prevention and Safety Grants—Grant Application Supplemental Information

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before February 16, 2016.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This proposed information collection previously published in the Federal Register on October 6, 2015 at 80 FR 60398 with a 60 day public comment period. FEMA received one comment requesting a copy of the proposed information collection, and a draft of the proposed information collection was subsequently forwarded to the requester. The Agency responded to this comment and provided the most up-to-date copy of the proposed information collection to the requester. The purpose of this notice is to notify the public that FEMA will submit the information collection abstracted below to the Office of Management and Budget for review and clearance.

Collection of Information

Title: Assistance to Firefighters Grant Program and Fire Prevention and Safety Grants—Grant Application Supplemental Information.

Type of information collection: Revision of a currently approved information collection.

OMB Number: 1660-0054.

Form Titles and Numbers: FEMA Form 080-0-2, Assistance to Firefighters Grants (AFG) Application (General Questions and Narrative); FEMA Form 080-0-2a, Activity Specific Questions for AFG Vehicle Applicants; FEMA Form 080-0-2b, Activity Specific Questions for AFG Operations and Safety Applications; FEMA Form 080-0-3, Activity Specific Questions for Fire Prevention and Safety (FP&S) Applicants; FEMA Form 080-0-3a, Fire Prevention and Safety; FEMA Form 080-0-3b, Research and Development.

Abstract: The FEMA forms for this collection are used to objectively evaluate each of the anticipated applicants to determine which applicants' submission in each of the AFG activities are close to the established program priorities. FEMA also uses the information to determine eligibility and whether the proposed use of funds meets the requirements and intent of the Federal Fire Prevention and Control Act of 1974, as amended.

Affected Public: State, Local or Tribal Government; Not-for-profit Institutions.

Estimated Number of Respondents: 22,000.

Estimated Total Annual Burden Hours: 158,590 hours.

Estimated Cost: The estimated annual cost to respondents for the hour burden is $7,849,130.00. There are no annual costs to respondents' operations and maintenance costs for technical services. There are no annual start-up or capital costs. The cost to the Federal Government is $3,319,699.04.

Dated: December 23, 2015.
Richard W. Mattison,
Records Management Program Chief, Mission Support, Federal Emergency Management Agency, Department of Homeland Security.

[FR Doc. 2016-00543 Filed 1-13-16; 8:45 am]

BILLING CODE 9111-78-P